DEPARTMENT OF ENERGY

Federal Energy Regulatory Commission

[Docket No. AD16-25-000]

Utilization In the Organized Markets of Electric Storage Resources as Transmission Assets Compensated Through Transmission Rates, for Grid Support Services Compensated in Other Ways, and for Multiple Services; Notice of Technical Conference

Take notice that the Federal Energy Regulatory Commission (Commission) will convene a technical conference on November 9, 2016, at the Commission's offices at 888 First Street NE., Washington, DC 20426 beginning at 10:00 a.m. and ending at 3:00 p.m. (Eastern Time). Commission staff will lead the conference, and Commissioners may attend.

Electric storage resources ¹ are able to provide services to multiple entities (i.e., Regional Transmission Organizations/Independent System Operators (RTO/ISO), the distribution utilities, or other markets). In addition, these storage resources may fit into one or more of the traditional asset functions of generation, transmission, and distribution. The Commission wants to explore the circumstances under which it may be appropriate for electric storage resources to provide multiple services, whether the RTO/ISO tariffs need to include provisions to accommodate these business models, and how the Commission may ensure just and reasonable compensation for these resources in the RTO/ISO markets.² The subject of the conference will be the utilization of electric storage resources as transmission assets compensated through transmission rates, for grid support services that are compensated in other ways, and for multiple services. The discussion will include issues related to (1) potential models for cost recovery for electric storage resources utilized as transmission assets, while also selling energy, capacity or ancillary services at wholesale; (2) potential models to enable an electric storage resource to provide a compensated grid support service (like a generator providing ancillary services under a reliability must-run contract) rather than being compensated for providing transmission service; and (3) practical considerations for electric storage resources providing multiple services at once (i.e., providing both wholesale service(s) and retail and/or end-use service(s)). Further details of the conference will be specified in a supplemental notice.

¹ For purposes of this conference, Commission staff defines an electric storage resource as a facility that can receive electric energy from the grid and store it for later injection of electricity back to the grid. This includes all types of electric storage technologies, regardless of their size and storage medium, or whether they are interconnected to the transmission system, distribution system, or behind a customer meter.

² On April 11, 2016, Commission staff issued, in Docket No. AD16-20-000, data requests and a request for comments seeking information about the rules in RTO/ISO markets that affect the participation of electric storage resources.

Those wishing to participate in this conference should submit a nomination form online by 5:00 p.m. on October 14, 2016 at: https://www.ferc.gov/whats-new/registration/11-09-16-speaker-form.asp.

All interested persons may attend the conference, and registration is not required. However, in-person attendees are encouraged to register on-line at: https://www.ferc.gov/whats-new/registration/11-09-16-form.asp.

This conference will be transcribed and webcasted. Transcripts will be available immediately for a fee from Ace Reporting Company at (202) 347-3700. A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov, call (866) 208-3372 (toll free) or (202) 208-8659 (TTY), or send a fax to (202) 208-2106 with the required accommodations.

For information about the technical conference, please contact Rahim Amerkhail at (202) 502-8266, rahim.amerkhail@ferc.gov. For logistic information, please contact Sarah McKinley at (202) 502-8368, sarah.mckinley@ferc.gov.

Dated: September 30, 2016.
Kimberly D. Bose,
Secretary.

[FR Doc. 2016-24274 Filed 10-6-16; 8:45 am]

BILLING CODE 6717-01-P